DEPARTMENT OF AGRICULTURE

Rural Business-Cooperative Service

Rural Utilities Service

7 CFR Parts 4279 and 4287

RIN 0570-AA73

Biorefinery, Renewable Chemicals, and Biobased Product Manufacturing Assistance Program; Correction

AGENCY: Rural Business-Cooperative Service, Rural Utilities Service, U.S. Department of Agriculture (USDA).

ACTION: Interim final rule; correction.

SUMMARY: This document corrects an error in the interim final rule that appeared in the Federal Register of June 24, 2015, entitled “Biorefinery, Renewable Chemical, and Biobased Product Manufacturing Assistance Program.” On page 36415, second column, the incorrect effective date was used and does not match with the date under the DATES section of the interim final rule.

DATES: This document is effective July 9, 2015.

FOR FURTHER INFORMATION CONTACT: Todd Hubbell, Energy Branch, Rural Business-Cooperative Service, U.S. Department of Agriculture, STOP 3225, 1400 Independence Avenue SW., Washington, DC 20250-3225; telephone (202) 720-0410.

SUPPLEMENTARY INFORMATION: In FR Doc. 2015-14989 of June 24, 2015 (80 FR 36410), make the following corrections:

1. On page 36415, in the second column, at the first line, remove “July 24” and add “August 24” in its place.

Dated: July 2, 2015.
Samuel Rikkers,
Acting Administrator, Rural Business-Cooperate Service.

[FR Doc. 2015-16758 Filed 7-8-15; 8:45 am]

BILLING CODE 3410-XY-P